DEPARTMENT OF JUSTICE

Notice of Lodging of Proposed Consent Decree Under the Comprehensive Environmental Response, Compensation, and Liability Act

On July 26, 2023, the Department of Justice lodged a proposed consent decree with the United States District Court for the District of Puerto Rico in United States v. HP Inc., et al. 3:23-cv-1383.

The United States filed a complaint against HP Inc., Lifetime Brands, Inc., Puerto Rico Industrial Development Company, and Wallace Silversmiths de Puerto Rico Ltd. under section 106 of the Comprehensive Environmental Response, Compensation, and Liability Act, 42 U.S.C. 9606 relating to releases of hazardous substances at Operable Unit 1 of the San German Groundwater Site in San German, Puerto Rico. The proposed consent decree resolves this claim and requires the defendants to design and implement the remedy selected by the United States Environmental Protection Agency for Operable Unit 1 of the San German Groundwater Site. In addition, the defendants agree to pay the United States' future costs for overseeing the response work.

The publication of this notice opens a period for public comment on the consent decree. Comments should be addressed to the Assistant Attorney General, Environment and Natural Resources Division, and should refer to United States v. HP Inc., et al, D.J. Ref. No. 90-11-3-12111. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the proposed consent decree may be examined and downloaded at this Justice Department website: https://www.justice.gov/enrd/consent-decrees. We will provide a paper copy of the proposed consent decree upon email request to pubcomment-ees.enrd@usdoj.gov.

Henry S. Friedman,
Assistant Section Chief, Environmental Enforcement Section, Environment and Natural Resources Division.

[FR Doc. 2023-16182 Filed 7-28-23; 8:45 am]

BILLING CODE 4410-15-P